DEPARTMENT OF LABOR

Occupational Safety and Health Administration

[Docket No. ICR-1218-0233(2004)]

Construction Records for Rigging Equipment for Material Handling; Extension of the Office of Management and Budget's (OMB) Approval of Information-Collection (Paperwork) Requirements

AGENCY: Occupational Safety and Health Administration (OSHA), Labor

ACTION: Request for Comment.

SUMMARY: OSHA solicits comment concerning its proposal to extend OMB approval of the information-collection requirements contained in paragraphs (b)(1), (b)(6)(i), (b)(6)(ii), (c)(15)(iii), (c)(1)(i), (ii), and (iii), and (f)(2) of the Rigging Equipment for Construction Standard (29 CFR 1926.251). These paragraphs require affixing identification tags or markings on rigging equipment, developing and maintain; inspection records; and retaining proof-testing certificates.

DATES: Comments must be submitted by the following dates: Hard Copy: Your comments must be submitted (postmarked or received) by May 25, 2004.

Faxcsimile and electronic transmission: Your comments must be received by May 25, 2004.

ADDRESSES:

I. Submission of Comments

Regular mail, express delivery, hand-delivery, and messenger service: Submit your comments and attachments to the OSHA Docket Office, Docket No. ICR 1218-0233(2004), Room N-2625, U.S. Department of Labor, 200 Constitution Avenue, NW., Washington, DC 20210. OSHA Docket Office and Department of Labor hours of operation are 8:15 a.m. to 4:45 p.m., e.s.t.

Facsimile: If your comments, including any attachments, are 10 pages or fewer, you may fax them to the OSHA Docket Office at (202) 693-1648. You must include the docket number, ICR 1218-0233(2004), in your comments.

Electronic: You may submit comments, but not attachments, through the Internet at http://ecomments.osha.gov/.

II. Obtaining Copies of the Supporting Statement for the Information Collection Request

The Supporting Statement for the Information Collection Request (ICR) is available for downloading from OSHA's Web site at http://www.osha.gov. The complete ICR, containing theOMB 83-I Form, Supporting Statement, and attachments is available for inspection and copying in the OSHA Docket Office, at the address listed above. A printed copy of the supporting statement can be obtained by contacting Todd Owen at (202) 693-2222.

FOR FURTHER INFORMATION CONTACT: Noah Connell, Directorate of Construction, OSHA, U.S. Department of Labor, Room N-3467, 200 Constitution Avenue, NW., Washington, DC 20210; telephone (202) 693-2222.

SUPPLEMENTARY INFORMATION:

I. Submission of Comments on This Notice and Internet Access to Comments and Submissions

You may submit comments in response to this document by (1) hard copy, (2) FAX transmission (facsimile), or (3) electronically through the OSHA webpage. Please note you cannot attach materials such as studies or journal articles to electronic comments. If you have additional materials, you must submit three copies of them to the OSHA Docket Office at the address above. The additional materials must clearly identify your electronic comments by name, date, subject and docket number so we can attach them to your comments. Because of security-related problems there may be a significant delay in the receipt of comments by regular mail. Please contact the OSHA Docket Office at (202) 693-2350 for information about security procedures concerning the delivery of material by express delivery, hand delivery and messenger service.

II. Background

The Department of Labor, as part of its continuing effort to reduce paperwork and respondent (i.e., employer) burden, conducts a preclearance consultation program to provide the public with an opportunity to comment on proposed and continuing information-collection requirements in accordance with the Paperwork Reducton Act of 1995 (PRA-95) (44 U.S.C. 3506(c)(2)(A)).

This program ensures that information is in the desired format, reporting burden (time and costs) is minimized, collection instruments are understandable, and OSHA's estimate of the information-collection burden is correct.

This program ensures that information is in the desired format, reporting burden (time and cost) is minimal, collection instruments are clearly understood, and OSHA's estimate of the information-collection burden is correct. The Occupational Safety and Health Act of 1910 (the Act) authorizes information collection by employers as necessary or appropriate for enforcement of the Act or for developing information regarding the causes and prevention of occupational injuries, illnesses, and accidents (29 U.S.C. 657). The Rigging Equipment in Construction Standard (i.e., “the Standard”) specifies the paperwork requirements. The following section describes who uses the information collected under each requirement, as well as how they use it.

Alloy Steel Chains, Paragraph (b)

Paragraph (b)(1) requires that alloy steel chains have permanently affixed durable identification tags, stating size, grade, rated capacity and sling manufacturer. Paragraph (b)(6)(i) requires the employer to make a thorough periodic inspection of alloy steel chain slings in use on a regular basis, but at least once a year. Paragraph (b)(6)(ii) requires the employer to make and maintain a record of the most recent month in which each alloy steel chain was inspected and make the record available for examination.

End Attachments, Paragraph (c)

Paragraph (c)(15)(ii) requires that all welded end attachments of wire rope slings be proof tested by the manufacturer at twice their rated capacity prior to initial use, and that the employer retain a certificate of the proof test and make it available for examination.

Synthetic Webbing (nylon, polyester, and polypropylene), Paragraph (e)

Paragraphs (e)(1)(i), (ii), and (iii) requires that synthetic web slings be marked or coded to show the manufactures trademark, rated capacity for the type of hitch and type of synthetic web material.

Shackles and Hooks, Paragraph (f)

Paragraph (f)(2) requires that all hooks for which no applicable manufacturer's recommendations are available be tested twice before they are put into use. The employer shall maintain a record of the dates and results of the tests.

III. Special Issues for Comment

OSHA has a particular interest in comments on the following issues:

• Whether the proposed information-collection requirements are necessary for the proper performance of the Agency's functions to protect workers, including whether the information is useful;

• The accuracy of OSHA's estimate of the burden (time and costs) of the information-collection requirements, including the validity of the methodology and assumptions used;

• The quality, utility, and clarity of the information collected; and

• Ways to minimize the burden on employers who must comply; for example, by using automated or other technological information collection and transmission techniques.

IV. Proposed Actions

OSHA is proposing to extend the collection-of-information in the Rigging Equipment Standard (29 CFR 1926.251).

The Agency will summarize the comments submitted in response to this notice, and will include this summary in its request to OMB to extend the approval of these information-collection requirements.

Type of Review: Extension of a currently-approved information-collection requirement.

Title: Rigging Equipment for Material handling (29 CFR 1926.25(b)(1), (b)(6)(i), (b)(6)(ii), (c)(15)(ii), (e)(1)(i), (ii), and (iii), and (f)(2).

OMB Number: 1218-0233.

Affected Public: Business or other for-profit; Not-for-profit institutions; Federal government; State, local or tribal governments.

Number of Respondents: 1,327,370.

Frequency of Recordkeeping: On occasion.

Average Time Per Response: Average 3 minutes (.05 hour) for an employer to maintain and disclose a certificate to 30 minutes (.5 hour) for employer to acquire information and make a tag for a sling.

Estimated Total Burden Hours: 56,335.

Estimated Cost (Operation and Maintenance): $0.

IV. Authority and Signature

John L. Henshaw, Assistant Secretary of Labor for Occupational Safety and Health, directed the preparation of this notice. The authority for this notice is the Paperwork Reduction Act of 1995 (44 U.S.C. 3506), and Secretary of Labor's Order No. 5-2002 (67 FR 65008).

Signed at Washington, DC, on March 23, 2004.
John L. Henshaw,
Assistant Secretary of Labor.

[FR Doc. 04-6848 Filed 3-25-04; 8:45 am]

BILLING CODE 4510-26-M